DEPARTMENT OF COMMERCE

National Oceanic and Atmospheric Administration

DEPARTMENT OF THE INTERIOR

Fish and Wildlife Service

RIN 0648-XB90

Availability of a Draft Environmental Assessment/Habitat Conservation Plan, and Receipt of Applications for Incidental Take Permits from the Broughton Land Company, Columbia County, Washington

AGENCIES: U.S. Fish and Wildlife Service (FWS), Interior; National Marine Fisheries Service (NMFS), National Oceanic and Atmospheric Administration, Commerce.

ACTION: Notice of Availability.

SUMMARY: The FWS and the NMFS (collectively, the Services) announce the availability for public review of a combined draft Environmental Assessment/Habitat Conservation Plan (EA/HCP) pertaining to an application by the Broughton Land Company (BLC) for incidental take permits (ITPs) pursuant to the Endangered Species Act of 1973, as amended (ESA). The draft EA/HCP addresses the proposed issuance of ITPs by the Services to the BLC for land management activities in Columbia County, Washington, that are identified in the HCP portion of the draft document. The proposed ITPs would authorize take, incidental to otherwise lawful activities, of the following threatened fish species: the bull trout (Salvelinus confluentus); Snake River spring/summer Chinook salmon and the Snake River fall Chinook salmon (both Oncorhynchus tshawytscha); and the middle Columbia River steelhead trout and the Snake River steelhead trout (both O. mykiss).

We request comments from the public on the permit applications and the draft EA/HCP, all of which are available for review. The EA/HCP describes the proposed action and the measures that the BLC will implement to minimize and mitigate take of the threatened fish species discussed above. To review the documents, see “Availability of Documents” in the SUPPLEMENTARY INFORMATION section below.

DATES: All comments must be received on or before April 4, 2008.

ADDRESSES: Please address written comments to the FWS Field Supervisor, Upper Columbia Fish and Wildlife Office, 11103 East Montgomery Drive, Spokane, WA 99206. You may also send comments by facsimile to (509) 891-6748 or by e-mail to fw1broughtonhcp@fws.gov.

FOR FURTHER INFORMATION CONTACT: For further information, please contact Michelle Eames, Project Manager, FWS, at (509) 893-8012, (509) 893-8010, or Dennis Carlson, Project Manager, NMFS, at (360) 753-5828.

SUPPLEMENTARY INFORMATION:

Availability of Documents

Copies of the draft documents listed above are available for public inspection and review during normal business hours at the FWS's Upper Columbia Fish and Wildlife Office and at the Dayton Public Library, 111 South 3rd Street, Dayton, WA 99382. You can also request copies by contacting the Services (see FOR FURTHER INFORMATION CONTACT section above) or on the internet at: http://www.fws.gov/easternwashington. The Services are soliciting comments from state and other Federal agencies, Tribes, and the public on these documents. All comments received will become part of the public record for this proposed action.

Background

Section 9 of the ESA (16 U.S.C. 1538) and the implementing regulations prohibit the “taking” of endangered or threatened species without a special exemption. The term take is defined under the ESA (16 U.S.C. 1532(19)) to mean harass, harm, pursue, hunt, shoot, wound, kill, trap, capture, or collect, or attempt to engage in any such conduct. “Harm” is defined by FWS regulation to include significant habitat modification or degradation where it actually kills or injures wildlife by significantly impairing essential behavioral patterns, including breeding, feeding, and sheltering (50 CFR 17.3). The NMFS definition of harm includes significant habitat modification or degradation where it actually kills or injures fish or wildlife by significantly impairing essential behavioral patterns, including breeding, feeding, spawning, migrating, rearing, and sheltering (50 CFR 222.102).

Section 10 of the ESA and the implementing regulations specify the requirements for the issuance of ITPs to non-Federal parties for the take of endangered and threatened species. Any proposed take must be incidental to otherwise lawful activities, must not appreciably reduce the likelihood of the survival and recovery of the species in the wild, and must minimize and mitigate the impact of such take to the maximum extent practicable. In addition, an applicant must prepare an HCP describing the impact that will likely result from such taking, the strategy for minimizing and mitigating the incidental take, the funding available to implement such steps, alternatives to such taking, and the reasons such alternatives are not being implemented. The FWS regulations governing permits for federally endangered and threatened species are found at 50 CFR 13.21. The NMFS regulations governing permits for federally endangered and threatened species are found at 50 CFR 222.307.

The National Environmental Policy Act (NEPA) (42 U.S.C. 4321 et seq.) requires that Federal agencies conduct an environmental analysis of their proposed actions to determine if the actions may significantly affect the human environment. Under NEPA, a reasonable range of alternatives to a proposed action must be developed and considered in the agencies' environmental review. Alternatives considered in an HCP environmental analysis may include: variations in the scope of covered activities; variations in the location, amount, and type of conservation; variations in permit duration; or a combination of these elements.

The BLC applied to the Services for two ITPs, which would authorize take of several threatened fish species. The FWS would issue an ITP to cover incidental take of the bull trout, and NMFS would issue an ITP to cover incidental take of the Snake River spring/summer Chinook salmon, Snake River fall Chinook salmon, middle Columbia River steelhead trout, and the Snake River steelhead trout. The proposed ITPs would authorize the take of those species incidental to otherwise lawful activities, including: (1) agricultural practices, including dry land and irrigated crop production; (2) livestock grazing; and (3) timber harvest (including final and intermediate harvesting, pre-commercial thinning, and salvage harvest activities). Each of the alternatives described and analyzed in the EA portion of the draft HCP/EA cover approximately 38,000 acres in various parcels in Columbia County, Washington. The proposed duration of the ITPs and HCP would be 25 years, although many aspects of the HCP's conservation strategy are intended to benefit aquatic species and their habitat beyond the term of the proposed permits. Should the permits be issued, they would include assurances under the Services' “No Surprises” regulations, which specify that as long as the terms of the HCP and the Permits are implemented, no additional conservation or mitigation measures will be required of the BLC, with respect to the covered species listed above, except as provided for in the HCP or required by a change in law. The draft EA/HCP identifies HCP alternatives considered by the BLC, NEPA alternatives considered in the EA, and explains why those alternatives were not selected.

The Services will evaluate the applications, associated documents, and public comments to determine whether the applications meet the requirements of NEPA regulations and section 10(a) of the ESA. Specifically, the applications will be evaluated to determine if they meet the following issuance criteria in section 10(a)(2)(B) of the ESA: the taking will be incidental; the applicant will, to the maximum extent practicable, minimize and mitigate the impacts of such taking; the applicant will ensure that adequate funding for the HCP will be provided; the taking will not appreciably reduce the likelihood of the survival and recovery of the species in the wild; and any other measures that the Secretaries of Commerce or the Interior may require as being necessary or appropriate for the purposes of the HCP will be taken. If it is determined that the requirements are met, NMFS and the FWS will issue permits for the incidental take of the covered species under their respective jurisdictions. The final EA will not be completed and permit decisions will not be made until after the end of the 30-day comment period. The final EA and permit decisions will fully consider all public comments received during the comment period.

Dated: February 28, 2008.
Angela Somma,
Chief, Endangered Species Division, Office of Protected Resources, National Marine Fisheries Service.

Dated: February 28, 2008.
David J. Wesley,
Deputy Regional Director, Fish and Wildlife Service, Region 1, Portland, Oregon.

[FR Doc. E8-4262 Filed 3-4-08; 8:45 am]

BILLING CODES 4310-55-S, 3510-22-S